POSTAL SERVICE

Sunshine Act Meeting; Board of Governors

TIME AND DATE: March 24, 2020 and daily until April 23, 2020 at 10:00 a.m.

PLACE: Washington, DC.

STATUS: Closed.

MATTERS TO BE CONSIDERED:

1. Administrative Matters.

2. Strategic Matters.

General Counsel Certification: The General Counsel of the United States Postal Service has certified that such meetings may be closed under the Government in the Sunshine Act.

CONTACT PERSON FOR MORE INFORMATION: Michael J. Elston, Secretary of the Board, U.S. Postal Service, 475 L'Enfant Plaza SW, Washington, DC 20260-1000. Telephone: (202) 268-4800.

Michael J. Elston,
Secretary.

[FR Doc. 2020-06632 Filed 3-26-20; 11:15 am]

BILLING CODE 7710-12-P